DEPARTMENT OF HOMELAND SECURITY

U.S. Citizenship and Immigration Services

[CIS No. 2359-05]

RIN 1615-ZA27

Automatic Extension of Employment Authorization Documentation for Honduran and Nicaraguan TPS Beneficiaries

AGENCY: U.S. Citizenship and Immigration Services, DHS.

ACTION: Notice.

SUMMARY: On November 3, 2004, U.S. Citizenship and Immigration Services (USCIS) of the Department of Homeland Security (DHS) published two Notices in the Federal Register extending the designations of Honduras and Nicaragua for Temporary Protected Status (TPS) until July 5, 2006, and automatically extending employment authorization documents (EADs) for the beneficiaries of TPS for Honduras and Nicaragua for six months, from January 5, 2005 until July 5, 2005. Beneficiaries of TPS for Honduras and Nicaragua are required to re-register and obtain new EADs. However, because of the large number of beneficiaries for TPS for Nicaragua and Honduras, USCIS will not be able to process and re-issue new EADs for all such beneficiaries by the July 5, 2005 expiration date. Accordingly, USCIS has decided to extend the validity of EADs issued to Honduran or Nicaraguan nationals (or aliens having no nationality who last habitually resided in Honduras or Nicaragua) under the extension of the TPS designations for an additional 90 days, from July 5, 2005 until October 5, 2005. This Notice announces that extension and also explains how TPS beneficiaries and their employers may determine which EADs are automatically extended.

DATES: The extension of EADs is effective July 5, 2005.

FOR FURTHER INFORMATION CONTACT: Colleen Cook, Residence and Status Services, Office of Programs and Regulations Development, U.S. Citizenship and Immigration Services, Department of Homeland Security, 111 Massachusetts Avenue, NW., 3rd Floor, Washington, DC 20529, telephone (202) 514-4754.

SUPPLEMENTARY INFORMATION:

Why Is USCIS Automatically Extending the Validity of EADS for Honduran and Nicaraguan TPS Beneficiaries?

Considering the large number of applications, it is likely that many re-registrants will receive their new EAD after the expiration date of their current EAD. In order to prevent a gap in employment authorization for qualified re-registrants, DHS is extending the validity of applicable EADs to October 5, 2005.

Who Is Eligible To Receive an Automatic Extension of His or Her EAD?

To receive an automatic extension of his or her EAD, an individual must be a national of Honduras or Nicaragua (or an alien having no nationality who last habitually resided in Honduras or Nicaragua) who has applied for and received an EAD under the TPS designation of Honduras or Nicaragua. This automatic extension is limited to EADs bearing an expiration date of January 5, 2005, that were issued on either Form I-766, Employment Authorization Document, or Form I-688B, Employment Authorization Card. The EAD must also be either (1) a Form I-766 bearing the notation “A-12” or “C-19” on the face of the card under “Category,” or (2) a Form I-688B bearing the notation “274a.12(a)(12)” or “274a.12(c)(19)” on the face of the card under “Provision of Law.”

Must Qualified Individuals Apply for the Automatic Extension of Their TPS-Related EADs?

No, qualified individuals do not have to apply for this automatic employment authorization extension to October 5, 2005.

What Documents May a Qualified Individual Show to His or Her Employer as Proof of Employment Authorization and Identity When Completing Form I-9, Employment Eligibility Verification?

For completion of the Form I-9 at the time of hire or re-verification, qualified individuals who are receiving a three-month extension of their EADs by virtue of this Federal Register Notice may present to their employer a TPS-based EAD as proof of identity and employment authorization until October 5, 2005. To minimize confusion over this extension at the time of hire or re-verification, qualified individuals may also present to their employer a copy of this Federal Register Notice regarding the automatic extension of employment authorization documentation to October 5, 2005. In the alternative, any legally acceptable document or combination of documents listed in List A, List B, or List C of the Form I-9 may be presented as proof of identity and employment eligibility; it is the choice of the employee.

How May Employers Determine Whether an EAD Has Been Automatically Extended Through October 5, 2005 and Is Therefore Acceptable for Completion of the Form I-9?

For purposes of verifying identity and employment eligibility or re-verifying employment eligibility on the Form I-9 until October 5, 2005, employers of Honduran and Nicaraguan TPS beneficiaries whose EADs have been automatically extended by this Notice must accept such EAD if presented. An EAD that has been automatically extended by this notice to October 5, 2005 will actually contain an expiration date of January 5, 2005, and must be either (1) a Form I-766 bearing the notation “A-12” or “C-19” on the face of the card under “Category,” or (2) a Form I-688B bearing the notation “274a.12(a)(12)” or “274a.12(c)(19)” on the face of the card under “Provision of Law.” New EADs or extension stickers showing the October 5, 2005 expiration date will not be issued. Employers should not request proof of Honduran or Nicaraguan citizenship. Employers presented with an EAD that has been extended pursuant to this Federal Register Notice, if it appears to be genuine and appears to relate to the employee, should accept the EAD as a valid “List A” document and should not ask for additional Form I-9 documentation. This action by USCIS through this Federal Register Notice does not affect the right of an employee to present any legally acceptable document as proof of identity and eligibility for employment.

Employers are reminded that the laws prohibiting unfair immigration-related employment practices remain in full force. For questions, employers may call the USCIS Office of Business Liaison Employer Hotline at 1-800-357-2099 to speak to a USCIS representative. Also, employers may call the U.S. Department of Justice Office of Special Counsel for Immigration Related Unfair Employment Practices (OSC) Employer Hotline at 1-800-255-8155 or 1-800-362-2735 (TDD). Employees or applicants may call the OSC Employee Hotline at 1-800-255-7688 or 1-800-237-2515 (TDD) for information regarding the automatic extension. Additional information is available on the OSC Web site at http://www.usdoj.gov/crt/osc/index.html.

Dated: July 1, 2005.
Michael Petrucelli,
Acting Director, U.S. Citizenship and Immigration Services.

[FR Doc. 05-13401 Filed 7-1-05; 4:06 pm]

BILLING CODE 4410-10-P